Title 3—

The President

Notice of June 24, 2009

Continuation of the National Emergency With Respect to North Korea

On June 26, 2008, by Executive Order 13466, the President declared a national emergency pursuant to the International Emergency Economic Powers Act (50 U.S.C. 1701-1706) to deal with the unusual and extraordinary threat to the national security and foreign policy of the United States constituted by the current existence and risk of the proliferation of weapons-usable fissile material on the Korean Peninsula. The President also found that it was necessary to maintain certain restrictions with respect to North Korea that would otherwise have been lifted pursuant to Proclamation 8271 of June 26, 2008, which terminated the exercise of authorities under the Trading With the Enemy Act (50 U.S.C. App. 1-44) with respect to North Korea.

Because the existence and risk of the proliferation of weapons-usable fissile material on the Korean Peninsula continue to pose an unusual and extraordinary threat to the national security and foreign policy of the United States, the national emergency declared on June 26, 2008, and the measures adopted on that date to deal with that emergency, must continue in effect beyond June 26, 2009. Therefore, in accordance with section 202(d) of the National Emergencies Act (50 U.S.C. 1622(d)), I am continuing for 1 year the national emergency declared in Executive Order 13466.

This notice shall be published in the Federal Register and transmitted to the Congress.

THE WHITE HOUSE,

June 24, 2009.

[FR Doc. E9-15270

Filed 6-24-09; 11:15 am]

Billing code 3195-W9-P